DEPARTMENT OF DEFENSE

GENERAL SERVICES ADMINISTRATION

NATIONAL AERONAUTICS AND SPACE ADMINISTRATION

48 CFR Chapter 1

[Docket No. FAR 2015-0051, Sequence No. 6]

Federal Acquisition Regulation; Federal Acquisition Circular 2005-86; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2005-86, which amends the Federal Acquisition Regulation (FAR). An asterisk (*) next to a rule indicates that a regulatory flexibility analysis has been prepared. Interested parties may obtain further information regarding these rules by referring to FAC 2005-86, which precedes this document. These documents are also available via the Internet at http://www.regulations.gov.

DATES: December 31, 2015.

FOR FURTHER INFORMATION CONTACT: For clarification of content, contact the analyst whose name appears in the table below. Please cite FAC 2005-86 and the FAR case number. For information pertaining to status or publication schedules, contact the Regulatory Secretariat at 202-501-4755.

Rules Listed in FAC 2005-86
Item | Subject | FAR case | Analyst
*I | Definition of “Multiple-Award Contract” | 2015-019 | Uddowla.
*II | Sole Source Contracts for Women-Owned Small Businesses (Interim) | 2015-032 | Uddowla.
III | New Designated Countries—Montenegro and New Zealand | 2015-034 | Davis.
IV | Trade Agreements Thresholds | 2016-001 | Davis.

SUPPLEMENTARY INFORMATION: Summaries for each FAR rule follow. For the actual revisions and/or amendments made by these rules, refer to the specific item numbers and subjects set forth in the documents following these item summaries. FAC 2005-86 amends the FAR as follows:

Item I—Definition of “Multiple-Award Contract” (FAR Case 2015-019)

This rule amends the FAR to define “multiple-award contract.” This rule implements the definition established by the Small Business Administration (SBA) in its final rule that published in the Federal Register at 78 FR 61114 on October 2, 2013. SBA's final rule implements the statutory definition of the term from section 1311 of the Small Business Jobs Act of 2010, Pub. L. 111-240.

This final rule does not place any new requirements on small entities.

Item II—Sole Source Contracts for Women-Owned Small Businesses (FAR Case 2015-032) (Interim)

This interim rule amends the FAR to implement regulatory changes made by the Small Business Administration (SBA) in its final rule as published in the Federal Register at 80 FR 55019, on September 14, 2015. SBA's final rule implements the statutory requirements of paragraph (a)(3) of section 825 of the Carl Levin and Howard P. `Buck' McKeon National Defense Authorization Act for Fiscal Year 2015, Public Law 113-291, which grants contracting officers the authority to award sole source contracts to economically disadvantaged women-owned small business (EDWOSB) concerns and to women-owned small business (WOSB) concerns eligible under the WOSB Program. The anticipated price, including options, must not exceed $6.5 million for manufacturing NAICS codes, or $4 million for other NAICS codes.

This interim rule may have a positive economic impact on women-owned small businesses.

Item III—New Designated Countries—Montenegro and New Zealand (FAR Case 2015-034)

This final rule amends the FAR to add Montenegro and New Zealand as new designated countries under the World Trade Organization Government Procurement Agreement (WTO GPA). The rule also updates the list of parties to the Agreement on Trade in Civil Aircraft by adding Montenegro.

This final rule has no significant impact on the Government and contractors, including small business entities.

Item IV—Trade Agreements Thresholds (FAR Case 2016-001)

This final rule amends the FAR to adjust the thresholds for application of the World Trade Organization Government Procurement Agreement and the Free Trade Agreements as determined by the United States Trade Representative, according to a pre-determined formula under the agreements.

Dated: December 17, 2015.
William Clark,
Director, Office of Government-wide Acquisition Policy, Office of Acquisition Policy, Office of Government-wide Policy.

[FR Doc. 2015-32431 Filed 12-30-15; 8:45 am]

BILLING CODE 6820-EP-P